DEPARTMENT OF COMMERCE

National Oceanic and Atmospheric Administration

[RTID 0648-XE166]

Endangered and Threatened Species; Take of Anadromous Fish

AGENCY: National Marine Fisheries Service (NMFS), National Oceanic and Atmospheric Administration (NOAA), Commerce.

ACTION: Notice of receipt of application; 13 permit renewals, 2 permit modifications, and 6 new permits.

SUMMARY: Notice is hereby given that NMFS has received 21 scientific research permit application requests relating to Pacific salmon, steelhead, green sturgeon, rockfish, and eulachon. The proposed research is intended to increase knowledge of species listed under the Endangered Species Act (ESA) and to help guide management and conservation efforts.

DATES: Comments or requests for a public hearing on the applications must be received at the appropriate address or fax number (see ADDRESSES) no later than 5 p.m. Pacific standard time on September 9, 2024.

ADDRESSES: All written comments on the applications should be sent by email to nmfs.wcr-apps@noaa.gov (please include the permit number in the subject line of the email).

The applications may be viewed online at: https://apps.nmfs.noaa.gov/preview/preview_open_for_comment.cfm.

FOR FURTHER INFORMATION CONTACT: Diana Dishman, Portland, OR (ph.: 503-736-4466), email: Diana.Dishman@noaa.gov). Permit application instructions are available from the address above, or online at https://apps.nmfs.noaa.gov.

SUPPLEMENTARY INFORMATION:

Species Covered in This Notice

The following listed species are covered in this notice:

Chinook salmon (Oncorhynchus tshawytscha): Threatened Puget Sound (PS); threatened Snake River (SnkR) fall-run; threatened SnkR spring/summer-run; endangered Upper Columbia River (UCR) spring-run; threatened Upper Willamette River (UWR); threatened Lower Columbia River (LCR); endangered Sacramento River (SacR) winter-run; threatened California Coastal (CC).

Steelhead (O. mykiss): Threatened Middle Columbia River (MCR); threatened PS; threatened SnkR Basin; threatened UCR; threatened UWR; threatened Central California Coast (CCC); threatened California Central Valley (CCV); threatened Northern California (NC); threatened LCR.

Chum salmon (O. keta): Threatened Hood Canal summer-run (HCS); threatened Columbia River (CR).

Coho salmon (O. kisutch): threatened Southern Oregon/Northern California Coast (SONCC); endangered Central California Coast (CCC); threatened LCR.

Sockeye salmon (O. nerka): Endangered SnkR; Threatened Ozette Lake (OL).

Eulachon (Thaleichthys pacificus): Threatened southern (S).

Rockfish: Endangered Puget Sound/Georgia Basin (PS/GB) Boccacio (Sebastes paucispinis) Distinct Population Segment (DPS); threatened PS/GB Yelloweye (Sebastes ruberrimus) DPS.

Green sturgeon (Acipenser medirostris): Threatened southern Distinct Population Segment (SDPS).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1386-11M

Under permit 1386-11M, the Washington Department of Ecology (WDOE) is seeking to modify a permit that would authorize them to continue taking adult and juvenile PS Chinook salmon, PS steelhead, HCS chum salmon, OL sockeye salmon, UCR spring-run Chinook salmon, UCR steelhead, MCR steelhead, SnkR spring/summer-run Chinook salmon, SnkR fall-run Chinook salmon, SnkR steelhead, LCR Chinook salmon, LCR coho salmon, LCR steelhead, and CR chum salmon. in order to characterize toxic contaminants in resident freshwater fish across Washington.

The WDOE conducts this research in order to meet Federal and State regulatory requirements. This research would benefit listed species by identifying toxic contaminants in resident and prey fish and thereby inform pollution control actions. The WDOE proposes to capture fish using various methods including backpack and boat electrofishing, beach seining, block, fyke, and gill netting, and angling. All captured salmon and steelhead would either be released immediately or held temporarily in an aerated live well to help them recover before release. The researchers do not propose to kill any fish but a small number may die as an unintended result of research activities.

Permit 1484-8R

Under permit 1484-8R, the Washington Department of Natural Resources (WA DNR), Pacific Cascade Region, is seeking to renew for 5 years a permit that would authorize them to continue taking juvenile MCR steelhead, LCR Chinook salmon, LCR coho salmon, LCR steelhead, and CR chum salmon in order to identify fish-bearing streams on WA DNR land in Southwest Washington. Most streams are typed as fish or non-fish bearing based on the physical characteristics of average width and gradient, and connectivity to established fish-bearing waters. This activity will occur on WA DNR land in Lewis, Pacific, Grays Harbor, Wahkiakum, Clark, Cowlitz, Skamania, and Klickitat counties in the state of Washington.

Juveniles would be collected via backpack electrofishing, and would be captured, handled (weighed, measured, and checked for marks or tags), and released. The captured fish would be identified and released back to the waters from which they came. In some cases, the researchers may not actually capture any fish but would merely note their presence, however electrofishing where listed species are observed would still be reported as take. The researchers are not proposing to kill any of the listed fish being taken, but a small number may be killed as an inadvertent result of these activities. The information gathered would be used to determine salmonid presence and distribution and thereby inform land management decisions on WA DNR holdings. This information would benefit listed species by helping WDNR identify existing man-made fish barriers, and ensuring fish-bearing streams receive adequate riparian buffers.

Permit 1523-5R

Under permit 1523-5R, the National Council for Air and Stream Improvements (NCASI) is seeking to renew for 5 years a permit that would authorize them to continue taking juvenile and adult UWR Chinook salmon in order to study water quality and biological conditions in rivers receiving paper and pulp mill discharges from their facilities. This work would take place in the upper Willamette and McKenzie Rivers in Oregon.

Adult and juvenile fish would be collected via backpack electrofishing or boat electrofishing. Juvenile and adult fish may be captured, handled (weighed, measured, and checked for marks or tags), and released. In some cases, the researchers may not actually capture any fish but would merely note their presence, however electrofishing where listed species are observed would still be reported as take. The researchers are not proposing to kill any of the listed fish being captured, but a small number of fish may be killed as an inadvertent result of these activities.

The goal of the project is to identify changes in physical, chemical, and biological conditions in discharge watersheds, including biological assessments of periphyton, macroinvertebrate, and resident fish communities. Monitoring natural variability as well as changes resulting from pulp and paper mill discharges will allow researchers to identify where key sources of fish stress from impaired water quality are in the context of the larger watershed, and to rank the magnitude of those stressors. This study focuses on resident fish rather than migratory species such as ESA-listed salmon and steelhead, however, we expect that identifying areas with impaired water quality or habitat will benefit recovery planning for listed as well.

Permit 15205-5R

Under permit 15205-5R, Kwiáht the (Center for the Historical Ecology of the Salish Sea) is seeking to renew for 5 years a permit that would authorize them to continue taking juvenile PS Chinook salmon in order to understand long term changes in the food web that supports Salish Sea Chinook salmon populations. This work would take place on Lopez Island, Waldron Island, and Decatur Island in San Juan County, Washington.

Juveniles would be collected via beach seine. Juvenile fish identified as hatchery-origin would be captured, and may be handled (measured, weighed, and checked for marks or tags) prior to release. Captured natural-origin juveniles would be anesthetized, checked for marks and tags, lavaged for stomach contents, and tissue sampled prior to release. Scales shed during handling would also be retained. The researchers are not proposing to kill any of the listed fish being captured, but a small number of fish may be killed as an inadvertent result of these activities.

The purpose of this work is to characterize the food web supporting rearing juvenile Chinook salmon in the nearshore habitats of the San Juan Islands, and is expected to benefit ESA-listed PS Chinook salmon by identifying factors that may be limiting the growth and survival of outmigrating juveniles. A regime shift in regional weather patterns starting in 2014-2015 may have de-synchronized the relationship between outmigrating juvenile Chinook salmon and availability of prey, and this work aims to evaluate whether naturally-produced Chinook salmon can adapt to changes in key prey resources.

Permit 15230-4R

Under permit 15230-4R, the West Fork Environmental, Inc. is seeking to renew for 5 years a permit that would authorize them to continue taking juvenile PS Chinook salmon and PS steelhead in order to better understand the seasonal use of various reaches of the Tolt River by juvenile summer steelhead prior to their outmigration as smolts. These activities would take place in King County, Washington.

Juveniles would be collected via backpack electrofishing and hook and line angling. Juvenile Chinook salmon would be captured, handled (weighed, measured, checked for marks and tags), and released. Captured juvenile steelhead would be anesthetized, tissue sampled and PIT-tagged prior to release. A subset of steelhead will also have scale samples collected. The researchers are not proposing to kill any of the listed fish being captured, but a small number of fish may be killed as an inadvertent result of these activities.

The purpose of this study is to understand the reach-specific characteristics of juvenile summer steelhead rearing in the Tolt River across seasons, including information about timing of movement, size at age, and growth of juvenile steelhead in the upper reach. This work will also provide a better understanding of juvenile and adult summer steelhead movement across seasons, and the relative contribution of hatchery-origin fish to the summer steelhead population. This work is expected to benefit ESA-listed PS steelhead by informing managers about factors that may be limiting steelhead production within the Tolt River basin.

Permit 16298-5R

Under permit 16298-5R, the Shoshone-Bannock Tribes Fisheries Department is seeking to renew for 5 years a permit that would authorize them to continue taking adult SnkR spring/summer-run Chinook salmon and SnkR Basin steelhead in order to measure adult and juvenile Chinook salmon abundance and other salmon population viability parameters in Bear Valley Creek, Idaho.

Juveniles would be collected via screw trap, and the majority would be captured, handled (weighed, measured, and checked for marks and tags), and released. A subsample of captured juveniles would be anesthetized, tissue sampled, PIT-tagged, and may also have scale samples collected prior to release. Adults would be observed via a temporary fish counting station comprising a fish funneling weir, fish counting chamber, video surveillance system, and PIT tag antenna. Spawning ground surveys and creel surveys would also be conducted to enumerate spawning adults. No adult capture, handling, sampling, or tagging is proposed, but fish may be unintentionally injured or killed if impinged on or entangled in the weir. The researchers are not proposing to kill any of the listed fish being captured, but a small number of fish may be killed as an inadvertent result of these activities.

The purpose of this work is to continue maintaining a long-term dataset for Chinook salmon in Bear Valley Creek that includes information on abundance, productivity, spatial structure, run-timing, proportion of hatchery-origin contribution to the population, and genetic diversity. This work is expected to benefit ESA-listed SnkR Chinook salmon and steelhead by assisting fishery resource managers in identifying key factors that are preventing recovery in this basin.

Permit 17062-7R

Under permit 17062-7R, the NMFS Northwest Fisheries Science Center (NWFSC) is seeking to renew a permit that would authorize them to continue taking juvenile and adult PS Chinook salmon, PS steelhead, PS/Georgia Basin DPS bocaccio, PS/Georgia Basin DPS yelloweye rockfish, HCS chum salmon, and adult Southern DPS eulachon in order to collect demographic information and genetic samples from rockfish in Puget Sound. This work would take place across the main basins of Puget Sound, Hood Canal, and the San Juan Islands and other coastal areas in northern Puget Sound and the Strait of Juan de Fuca in the state of Washington.

Juveniles would be collected via minnow trap, moored mesh bags, hand or dip nets, and hook and line angling. Any Chinook salmon, steelhead, or chum collected would be handled (weighed, measured, checked for marks and tags) and released. Adult eulachon may also be unintentionally captured via these methods and would be released. Juvenile rockfish would be intentionally lethally sacrificed for genetic, tissue, and otolith analysis, and a small number may be from ESA-listed bocaccio or yelloweye rockfish DPSs. Adult salmon, steelhead, and rockfish would be collected via hook and line angling. Adult salmon and steelhead would be released without bringing them on board research vessels. Adult rockfish would be handled (weighed, measured, checked for marks and tags), tissue sampled, and floy-tagged prior to release at depth using a rapid descending device. The researchers are proposing to kill a small number of listed juvenile rockfish, and a small number of additional juvenile and adult fish may be killed as an inadvertent result of these activities.

The goal of this work is to collect biological, genetic, physiological and habitat information to evaluate bocaccio DPS structure and investigate how rocky reef, kelp forest, and eelgrass habitat characteristics affect the relative quality of these areas as nursery habitat for rockfishes in Puget Sound. This work is expected to benefit ESA-listed rockfish by providing more information on the structure of the endangered bocaccio DPS, and on juvenile rearing habitat quality and trophic relationships of rockfish relevant to managing yelloweye rockfish and bocaccio for recovery.

This study falls within the scope of the NWFSC research program that we previously analyzed in Biological Opinion WCRO-2023-01601. In that opinion, we concluded that the NWFSC research program would not jeopardize the continued existence of any ESA-listed species or destroy or adversely modify their critical habitats. In reaching our conclusion, we also considered activities related to permitting or authorizing individual studies under that research program for up to 10 years. Therefore, neither this study nor subsequently issuing a section 10(a)(1)(A) permit requires further consultation under the ESA.

Permit 17761-3R

Under permit 17761-3R, the East Bay Municipal Utility District is seeking to renew a permit that would authorize them to take adult and juvenile CCV steelhead in order to conduct monitoring and research of anadromous and resident fishes in the lower Mokelumne River. This work would take place in the San Joaquin Valley, in California.

Juveniles would be collected via backpack electrofishing, boat electrofishing, hook and line angling, beach seine, incline plane trap, screw trap, fish ladder, fyke trap, bypass trap, snorkel survey, and midwater trawl. All juvenile steelhead captured would be handled (weighed, measured, checked for marks and tags), and may be anesthetized as needed to collect accurate measurements, prior to release. A subsample of captured juveniles would be anesthetized, tissue sampled, and may be marked with photonic dye, elastomer tags, coded-wire tags, PIT-tags, acoustic tags, or floy tags prior to release. A subset of captured juvenile steelhead would also be gastric lavaged for stomach contents. A batch of hatchery-reared juvenile steelhead may also be implanted with acoustic tags prior to release.

Adults would be collected via fish weir, boat electrofishing, fish ladder, hook and line angling, incline plane trap, screw trap, fyke trap, and midwater trawl. Adults would be captured, handled (anesthetized, weighed, measured, and checked for marks or tags), and released. A subsample of captured adults would be anesthetized, tissue sampled and may be marked with photonic dye, elastomer tags, coded-wire tags, PIT-tags, acoustic tags, or floy tags prior to release. A subset of captured adult steelhead would also be gastric lavaged for stomach contents. Spawned adults or post-spawn carcasses would be enumerated via spawning surveys. Juvenile and adult fish would also be observed during snorkel surveys and video monitoring in the fish ladder. The researchers are not proposing to kill any of the listed fish being captured, but a small number of fish may be killed as an inadvertent result of these activities.

The goals of this project are to measure the success of the Lower Mokelumne River Restoration Program and determine if the modifications of the Lower Mokelumne River Project are appropriate for conserving fish and wildlife resources in the lower Mokelumne River. This project is expected to benefit ESA-listed species by providing scientific data to the Central Valley Project Improvement Act (CVPIA) Comprehensive Assessment and Monitoring Program (CAMP) to evaluate the relative effectiveness of CVPIA actions in restoring anadromous fish production.

Permit 18852-3R

Under permit 18852-3R, the U.S. Fish and Wildlife Service (USFWS) Mid-Columbia Fish and Wildlife Conservation Office is seeking to renew for 5 years a permit that would authorize them to continue taking juvenile and adult UCR spring-run Chinook salmon, UCR steelhead, and MCR steelhead in order to define the distribution and status of Pacific Lamprey, Bull Trout, and other native fish species. This work would take place in the Yakima, Wenatchee, Entiat, Methow, and Okanogan watersheds in the state of Washington.

Juveniles would be collected via backpack electrofishing, hand or dip net, fish ladders and weirs, minnow traps, and fyke nets. Most juvenile Chinook salmon and steelhead would not be targeted and, if captured, would be handled and immediately released. A subsample of captured juveniles may be anesthetized to identify species, obtain weights and measurements, and scanned for PIT tags before being released. Juvenile MCR steelhead trout captured in the Yakima Basin may be PIT-tagged and tissue sampled as well. Adults would be collected at dams and other structures and in traps, and may be caught by hook and line angling. Adult Chinook salmon or steelhead would be captured, handled (anesthetized, weighed, measured, and checked for marks or tags), and released, and may be anesthetized to identify species, obtain weights and measurements, and scanned for PIT tags before being allowed to recover and released. Spawned adults or post-spawn carcasses would be enumurated via spawning surveys. Juvenile and adult fish would also be observed during snorkel surveys. The researchers are not proposing to kill any of the listed fish being captured, but a small number of fish may be killed as an inadvertent result of these activities.

The purpose of this project is to assess recovery actions including capture and transport of Bull Trout to upstream of barriers, assessing fish utilization of restored habitat, and assessing Pacific Lamprey passage at existing structures and at lamprey-passage-engineered structures. This work is expected to benefit ESA-listed fish under the jurisdiction of the USFWS, and also provide information on passage barriers and habitat use relevant to managing listed Chinook salmon and steelhead in the UCR and MCR.

Permit 18921-3R

Under permit 18921-3R, the Samish Indian Nation is seeking to renew a permit that would authorize them to continue taking juvenile PS Chinook salmon and PS steelhead, and adult southern DPS eulachon in order to monitor the presence of fish species within and around the Cypress Island Secret Harbor restoration site. This work would take place on Cypress Island in Skagit County, Washington.

Juvenile PS Chinook salmon and steelhead and adult eulachon would be collected via beach seine. Captured fish would be handled (weighed, measured, and checked for marks or tags), and released. The researchers are not proposing to kill any of the listed fish being captured, but a small number of fish may be killed as an inadvertent result of these activities.

The purpose of this work is to assess the effectiveness of the Cypress Island Secret Harbor restoration project over 10 years after it was completed; particularly forage fish and salmonid habitat use within the site. Effective restoration at this site is expected to increase the amount of high quality estuarine habitat available to rearing PS Chinook salmon and steelhead juveniles, and this monitoring will provide managers information about whether the intended benefit has been realized.

Permit 19263-3R

Under permit 19263-3R, the Idaho Department of Fish and Game (IDFG) is seeking to renew for 5 years a permit that would authorize them to continue taking juvenile SnkR spring/summer-run Chinook salmon, SnkR Basin steelhead, and SnkR sockeye salmon in order to determine the distribution and abundance of various fish species in the Salmon River basin. This work would take place throughout the Salmon River basin in Idaho.

Juveniles would be collected via boat electrofishing. Juveniles of all three ESA-listed species may be anesthetized during capture and handling, however any SnkR sockeye juveniles will be released without tagging. A subsample of captured juvenile Chinook salmon and steelhead may be anesthetized, tissue sampled and PIT-tagged prior to release. In some cases, the researchers may not actually capture any fish but would merely note their presence, however electrofishing where listed species are observed would still be reported as take. The researchers are not proposing to kill any of the listed fish being captured, but a small number of fish may be killed as an inadvertent result of these activities.

The purpose of this project is to address various IDFG priority fisheries management and research issues relevant to their mandates, and to evaluate completed habitat restoration activities and prioritize future restoration actions. Both ESA-listed and resident fish are expected to benefit from research that will help inform decisions about how and where to protect and improve habitat conditions throughout the upper Salmon River basin.

Permit 22944-2R

Under permit 22944-2R, the NMFS NWFSC is seeking to renew a permit that would authorize them to continue taking juvenile UCR spring-run Chinook salmon, UCR steelhead, MCR steelhead, SnkR spring/summer-run Chinook salmon, SnkR fall-run Chinook salmon, SnkR Basin steelhead, SnkR sockeye salmon, LCR Chinook salmon, LCR coho salmon, LCR steelhead, CR chum salmon, Upper Willamette River Chinook salmon, and Upper Willamette River steelhead in order to document patterns of habitat occurrence, diet, and health indicators in juvenile salmon and steelhead in the Lower Columbia River. This work would take place in nearshore areas of the Lower Columbia River in Washington and Oregon, and in the Lower Willamette River in Oregon.

Juvenile salmon and steelhead would be collected via beach seine. Juvenile fish would be captured, handled (weighed, measured, and checked for marks and tags), and may be anesthetized to obtain measurements prior to release. A subsample of captured Chinook salmon juveniles would be anesthetized and further tissue sampled and PIT-tagged prior to release, and a small number would also be intentionally lethally sacrificed to determine their lipid content, conduct otolith analysis for health and growth assessment, do stomach content diet analyses, and take tissue samples for genetic stock identification. The researchers are proposing to kill a small number of listed fish, and a small number of fish may also be killed as an inadvertent result of these activities.

The objectives of the study are to better understand how juvenile salmonids utilize tidal freshwater habitats in the Columbia, to assess the quality of representative habitats in the lower river, to provide baseline data to guide habitat restoration and remediation activities, and to monitor the success of such activities at selected sites. The study is expected to benefit ESA-listed fish species by providing relevant information on (a) how habitat degradation may be affecting listed stocks that migrate through the Lower Columbia River and (b) what steps that can be taken to improve habitat quality.

This study falls within the scope of the NWFSC research program that we previously analyzed in Biological Opinion WCRO-2023-01601. In that opinion, we concluded that the NWFSC research program would not jeopardize the continued existence of any ESA-listed species or destroy or adversely modify their critical habitats. In reaching our conclusion, we also considered activities related to permitting or authorizing individual studies under that research program for up to 10 years. Therefore, neither this study nor subsequently issuing a section 10(a)(1)(A) permit requires further consultation under the ESA.

Permit 23629-2R

Under permit 23629-2R, the U.S. Geological Survey (USGS) is seeking to renew for 5 years a permit that would authorize them to continue taking adult UWR Chinook salmon and SONCC coho salmon in order to evaluate contaminant exposure, bioaccumulation, and effects in aquatic ecosystems and aquatic-dependent wildlife by assessing a wide range of contaminants (e.g., mercury, lead, copper, selenium, pesticides, organochlorines, PDBEs, and other emerging contaminants) in various fish and inland aquatic invertebrate species over a range of habitats and locations. This work would take place in the Willamette and Rogue River basins in the state of Oregon.

Juvenile and adult salmon would be collected via backpack electrofishing, boat electrofishing, hook and line angling, gill net, beach seine, and minnow trap. This contaminant study targets resident fish species and does not target ESA-listed salmon and steelhead, therefore listed fish would be captured, handled (weighed, measured, and checked for marks or tags), and swiftly released. In some cases, the researchers may not actually capture any fish but would merely note their presence, however electrofishing where listed species are observed would still be reported as take. The researchers are not proposing to kill any of the listed fish being captured, but a small number of fish may be killed as an inadvertent result of these activities.

The purpose of this work is to evaluate contaminant risks in aquatic ecosystems of the Pacific Northwest and assess the factors that influence contaminant exposure and effects in aquatic wildlife. This work is expected to benefit ESA-listed salmon by providing greater understanding on where and why contaminant threats exist, what impacts they may have on ecological function, and how management efforts can be targeted to minimize potential risk and thereby help recovery planning for these species.

Permit 23843-2R

Under permit 23843-2R the Skagit River System Cooperative is seeking to renew a permit that would authorize them to take juvenile PS Chinook salmon and PS steelhead in order to measure changes in fish densities, smolt production, and habitat attributable to restoration activities to continue the assessment of restoration efforts within the Skagit River and its floodplain. This work will take place in multiple locations across the Skagit River Basin in the State of Washington.

Juveniles PS Chinook salmon and steelhead would be collected via weir, backpack electrofishing, boat electrofishing, or beach seining. Juvenile fish would be captured, handled (weighed, measured, and checked for marks or tags), and released. A subsample of captured juveniles would marked with a caudal fin clip or dye prior to release. In some cases, the researchers may not actually capture any fish but would merely note their presence, however electrofishing where listed species are observed would still be reported as take. Spawning adults or post-spawn carcasses would be enumurated via spawning surveys. Juvenile and adult fish would also be observed during snorkel surveys. The researchers are not proposing to kill any of the listed fish being captured, but a small number of fish may be killed as an inadvertent result of these activities.

The goals of this project are to conduct traditional restoration effectiveness monitoring following restoration projects in the Skagit River Basin, and also contribute to development of a fish and habitat association model to inform restoration design. This work is expected to benefit ESA-listed fish by informing adaptive management of one restoration site specifically (Barnaby Slough) to increase the likelihood it will provide the expected habitat benefits for PS Chinook salmon and steelhead, and more broadly, improved fish and habitat association models that incorporate hydrodynamics will inform future restoration design.

Permit 26776

Under permit 26776, Anchor QEA is seeking a new permit that would authorize them to take juvenile PS Chinook salmon and PS steelhead in order to conduct stream typing and evaluate culverts as potential barriers to fish passage in support of Pierce County. This work would be conducted in locations across Pierce County, Washington.

Juvenile PS Chinook salmon and steelhead would be collected via hand or dip netting and backpack electrofishing. Captured fish would be handled (weighed, measured, and checked for marks or tags) prior to release. In some cases, the researchers may not actually capture any fish but would merely note their presence, however electrofishing where listed species are observed would still be reported as take. The researchers will only deploy electrofishing if attempts to visually observe and identify fish from the bank and to sample fish by dip nets are unsuccessful. The researchers are not proposing to kill any of the listed fish being captured, but a small number of fish may be killed as an inadvertent result of these activities.

The purpose of this work is to confirm the upper extent of fish presence in potentially fish-bearing streams, and support the prioritization of fish passage structures to establish access to suitable habitat in the upstream extent of fish-bearing habitat. This work is expected to benefit ESA-listed species by informing the planning of restoration and enhancement efforts to improve salmonid habitat, and salmonid access upstream of anthropogenic barriers in Pierce County.

Permit 27091-2M

Under permit 27091-2M, the Port of Seattle is seeking to modify a permit that would authorize them to take additional juvenile PS Chinook salmon and PS steelhead in order to assess juvenile salmonid habitat use and the presence of key invertebrate prey resources in the Lower Duwamish Waterway T-117 restoration site. This work would be conducted solely within the Lower Duwamish River in King County, Washington.

Juveniles would be collected via fyke net. Juvenile salmon and steelhead would be anesthetized, tissue sampled and PIT-tagged prior to release. The researchers are not proposing to kill any of the listed fish being captured, but a small number of fish may be killed as an inadvertent result of these activities.

The purpose of this project is to characterize salmonid use of the restoration site during individual tidal cycles and monitor the physical and biological characteristics of the site to measure whether the restoration project is meeting its stated objectives. The restoration of the T-117 site is expected to benefit PS Chinook salmon and steelhead by increasing the area and functional value of riparian, estuarine marsh, exposed intertidal substrate, and shallow subtidal habitats used by salmonids, and this monitoring work will increase the likelihood the restoration will be managed to provide the expected habitat benefits.

Permit 27824

Under permit 27824, the USGS is seeking a new permit that would authorize them to take juvenile SacR winter-run Chinook salmon in order to conduct egg incubation studies and mark-recapture monitoring programs to address juvenile production of winter-run Chinook salmon. This work will be conducted in Battle Creek and the Sacramento River below Shasta Dam, in the California Central Valley.

Juveniles would be collected via screw traps, and captured juveniles would be anesthetized, tissue sampled and PIT-tagged prior to release. Released juveniles may be recaptured using beach seines or backpack electrofishing, and handled (weighed, measured, checked for marks and tags) prior to release. Fertilized eggs from Livingston Stone National Fish Hatchery would be placed in egg boxes and set in designated redd locations along the Sacramento River. The egg boxes would be enclosed in mesh and visually observed from fertilization through emergence, and surviving alevins or fry will be released into the Sacramento River. The researchers are not proposing to kill any of the listed fish being captured, but a small number of fish may be killed as an inadvertent result of these activities.

The purpose of this project is to estimate tributary-level survival, somatic growth, and movement patterns of Chinook salmon, focusing on winter-run eggs and juveniles. These studies will help characterize influences of environmental conditions on salmon productivity, and are expected to benefit SacR winter-run Chinook salmon by addressing important data gaps for managers and informing habitat restoration efforts.

Permit 28055

Under permit 28055 the Gold Ridge Resource Conservation District (GRCD) is seeking a new permit that would authorize them to take juvenile and adult CC Chinook salmon, CCC coho salmon, and CCC steelhead in order to document the status and trends of salmonid populations in watersheds of the Sonoma Coast. This work will be conducted in the Bodega Bay and Russian River basins in coastal California.

Juveniles would be collected via backpack electrofishing, hook and line angling, hand or dip net, beach seine, minnow trap, and funnel or pipe trap. Juvenile fish would be captured, handled (anesthetized, weighed, measured, and checked for marks or tags), and released. A subsample of captured juveniles would also be tissue sampled and PIT-tagged prior to release. Adults are not being targeted during this work, but some may be unintentionally collected via funnel or pipe trap or encountered during electrofishing. Captured adults would be handled (weighed, measured, and checked for marks or tags), and released. Spawned adults or post-spawn carcasses would be enumerated via spawning surveys, and tissues may be collected from carcasses encountered during spawning surveys. Adult and juvenile fish would be observed during snorkel surveys. The researchers are not proposing to kill any of the listed fish being captured, but a small number of fish may be killed as an inadvertent result of these activities.

The goals of the restoration projects conducted by the GRCD are collectively to improve watershed health and resiliency for the benefit of salmonids, and these studies are intended to improve understanding of restoration needs by addressing information gaps about the current status of salmonid species in the targeted watersheds. This work is expected to benefit ESA-listed salmon and steelhead by providing information on the status and trends of their populations, and their contributions to broader ESUs, which can be used to better inform ESA-listed species management and restoration efforts.

Permit 28158

Under permit 28158 the Northwest Straits Foundation is seeking a new permit that would authorize them to take juvenile PS Chinook salmon and PS steelhead and adult southern DPS eulachon in order to evaluate the impact of shoreline armoring removal, beach nourishment, vegetation enhancement and toxic cleanup restoration efforts on nearshore fish habitat use. This work would take place in Bowman Bay, Cornet Bay, and Fidalgo Bay in Skagit County and Island County in the state of Washington.

Juvenile salmon and steelhead and adult eulachon would be collected via beach seining. Fish would be captured, handled (identified, weighed, measured, and checked for marks or tags), and released. The researchers are not proposing to kill any of the listed fish being captured, but a small number of fish may be killed as an inadvertent result of these activities.

The purpose of the restoration projects managed by the Northwest Straits Foundation is to restore and enhance habitat for nearshore wildlife, including migrating salmon and their prey species. These restoration efforts are expected to benefit rearing PS Chinook and steelhead, and this pre- and post-construction monitoring work will increase the likelihood the restoration projects will be designed and managed to provide the expected habitat benefits.

Permit 28199

Under permit 28199 the California State Polytechnic University Humboldt (Cal Poly Humboldt) is seeking a new permit that would authorize them to take adult SONCC coho salmon, NC steelhead, CC Chinook salmon, and SDPS green sturgeon in order to assess the presence, distribution, migration, habitat preferences, and movement patterns of sub-adult and adult green sturgeon. This work would take place in Humboldt Bay, Arcata Bay, Mad River Slough and Mad River Estuary in Humboldt and Del Norte Counties, in California.

Adults of all fish species would be collected via hook and line angling. This study is not targeting salmon or steelhead, so any CCC coho salmon, CC Chinook salmon, or NC steelhead captured would be immediately released. Captured adult green sturgeon would be handled (weighed, measured, and checked for marks or tags), tissue sampled and tagged with pop-up satellite archival tags prior to release. Adults would also be visually observed through vessel surveys and aerial surveys, including the use of cameras attached to aerial drones. The researchers are not proposing to kill any of the listed fish being captured, and do not anticipate any will be killed as an inadvertent result of these activities.

The purpose of this study is to assess the presence, distribution, and migration patterns of sub-adult and adult SDPS green sturgeon in Humboldt and Del Norte County, describe the habitat preferences, identify potential congregation sites, and evaluate individual movement patterns and their correlation with environmental variables. This work is expected to benefit ESA-listed SDPS green sturgeon by addressing current data gaps about distribution and habitat use, providing managers information necessary to evaluate how the species may be affected by future actions that would impact these bay and estuary habitats.

Permit 28292

Under permit 28292, the City of Portland is seeking a permit that would authorize them to take adult LCR Chinook salmon, LCR coho salmon, LCR steelhead, UWR Chinook salmon, and UWR steelhead while conducting a study to determine the levels of contamination in resident fish tissue and to continue documenting how tissue contamination levels are changing over the long term in the Columbia Slough. This work will be conducted within the lower Willamette River in Multnomah County, Oregon.

Juveniles and adults may be collected via boat electrofishing, and would be captured, handled, and released. ESA-listed fish are not being targeted for this study, but some may be unintentionally captured while targeting resident fish. In some cases, the researchers may not actually capture any fish but would merely note their presence, however electrofishing where listed species are observed would still be reported as take. The researchers are not proposing to kill any listed fish, but a small number of fish may be killed as an inadvertent result of these activities.

The purpose of this work is to assess whether or not upland source control actions are reducing toxic loads in fish tissue over time. This study is expected to benefit ESA-listed salmon and steelhead by providing data that will guide programmatic and risk management decisions in contaminated urban waterways and thereby reduce contaminant exposure and uptake in resident and migrating fish in the lower Willamette River over time.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: August 1, 2024.
Angela Somma,
Chief, Endangered Species Division, Office of Protected Resources, National Marine Fisheries Service.

[FR Doc. 2024-17410 Filed 8-7-24; 8:45 am]

BILLING CODE 3510-22-P